DEPARTMENT OF LABOR

Employment and Training Administration

[TA-W-51,653]

AID Temporary Services Osceola, Arkansas; Notice of Termination of Investigation

Pursuant to section 221 of the Trade Act of 1974, as mended, an investigation was initiated on April 30, 2003 in response to a worker petition filed on behalf of workers at AID Temporary Services, Osceola, Arkansas.

The petitioning group of workers is covered by an active certification (TA-W-50,548 amended) which remains in effect.

Consequently, further investigation in this case would serve no purpose, and the investigation has been terminated.

Signed in Washington, DC this 6th day of May, 2003.
Elliott S. Kushner,
Certifying Officer, Division of Trade Adjustment Assistance.

[FR Doc. 03-12573 Filed 5-19-03; 8:45 am]

BILLING CODE 4510-30-P